DEPARTMENT OF HEALTH AND HUMAN SERVICES

Food and Drug Administration

[Docket No. 00F-0812]

Bayer Co.; Filing of Food Additive Petition

AGENCY: Food and Drug Administration, HHS.

ACTION: Notice.

SUMMARY: The Food and Drug Administration (FDA) is announcing that Bayer Co. has filed a petition proposing that the food additive regulations be amended both to provide for the safe use of dimethyl dicarbonate (DMDC) in noncarbonated juice beverages containing up to and including 100 percent juice and to also provide for a more descriptive term, in place of “inhibitor of yeast”, for the safe use of DMDC.

FOR FURTHER INFORMATION CONTACT: Martha D. Peiperl, Center for Food Safety and Applied Nutrition (HFS-215), Food and Drug Administration, 200 C St. SW., Washington, DC 20204, 202-418-3077.

SUPPLEMENTARY INFORMATION: Under the Federal Food, Drug, and Cosmetic Act (sec. 409(b)(5) (21 U.S.C. 348(b)(5))), notice is given that a food additive petition (FAP 0A4718) has been filed by Bayer Co., c/o McKenna & Cuneo LLP, 1900 K St., NW., Washington, DC 20006-1108. The petition proposes to amend the food additive regulations in § 172.133 Dimethyl dicarbonate (21 CFR 172.133) both to provide for the safe use of DMDC in noncarbonated juice beverages containing up to and including 100 percent juice and also to provide for a more descriptive term, in place of “inhibitor of yeast”, for the safe use of DMDC.

The agency has determined under 21 CFR 25.32(k) and 21 CFR 25.30(i) that this action is of a type that does not individually or cumulatively have a significant effect on the human environment. Therefore, neither an environmental assessment nor an environmental impact statement is required.

Dated: February 22, 2000.
Alan M. Rulis,
Director, Office of Premarket Approval, Center for Food Safety and Applied Nutrition.

[FR Doc. 00-5468 Filed 3-6-00; 8:45 am]

BILLING CODE 4160-01-F